DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 11, 2009.

Interested persons are invited to submit written comments regarding the subject matter of the investigations to the Director, Division of Trade Adjustment Assistance, at the address shown below, not later than May 11, 2009.

The petitions filed in this case are available for inspection at the Office of the Director, Division of Trade Adjustment Assistance, Employment and Training Administration, U.S. Department of Labor, Room N-5428, 200 Constitution Avenue, NW., Washington, DC 20210.

Signed at Washington, DC, this 23rd day of April 2009.
Linda G. Poole,
Certifying Officer, Division of Trade Adjustment Assistance.

Appendix
[TAA petitions instituted between 4/13/09 and 4/17/09]
TA-W | Subject firm (petitioners) | Location | Date of institution | Date of petition
65786 | Lexis Nexis (Comp) | Miamisburg, OH | 04/13/09 | 04/09/09
65787 | Stand by Screw Machine, Inc. (Wkrs) | Berea, OH | 04/13/09 | 04/03/09
65788 | Schlumburger (Wkrs) | Casper, WY | 04/13/09 | 04/03/09
65789 | Bracalente Manufacturing Group (Wkrs) | Trambaursville, PA | 04/14/09 | 04/07/09
65790 | AIT (formerly Integrated Flow Systems) (Wkrs) | Pflugerville, TX | 04/14/09 | 04/13/09
65791 | Commercial Vehicle Group/Trim Systems (Comp) | Dublin, VA | 04/14/09 | 04/02/09
65792 | Almatis, Inc. (USW) | Benton, AR | 04/14/09 | 03/17/09
65793 | Home Fashion International (Wkrs) | Taylorsville, NC | 04/14/09 | 04/01/09
65794 | Leggett and Platt, Inc. (Comp) | Whittier, CA | 04/14/09 | 04/13/09
65795 | Caye Upholestry (Wkrs) | Amory, MS | 04/15/09 | 04/14/09
65796 | B. A. Ballou and Co., Inc. (Wkrs) | East Providence, RI | 04/15/09 | 04/03/09
65797 | ABB, Inc. (Wkrs) | Wichita Falls, TX | 04/15/09 | 04/13/09
65798 | The Toolroom, Inc. (Comp) | Owensville, MO | 04/15/09 | 04/14/09
65799 | Lance Transport, Inc. (Wkrs) | Hildebran, NC | 04/15/09 | 04/14/09
65800 | Bernhardt Main Office (Wkrs) | Lenoir, NC | 04/15/09 | 03/31/09
65801 | Georgia-Pacific (Comp) | Philomath, OR | 04/15/09 | 04/07/09
65802 | UGN, Inc. (Wkrs) | Jackson, TN | 04/15/09 | 03/20/09
65803 | Technicolor Video Cassette Services (Wkrs) | Livonia, MI | 04/16/09 | 04/06/09
65804 | Gerber Legendary Blades (Comp) | Portland, OR | 04/16/09 | 04/15/09
65805 | Weyerhaeuser Company/Pine Hill Veneer/Lumber (Comp) | Pine Hill, AL | 04/16/09 | 04/14/09
65806 | ILevel by Weyerhaeuser—Castleberry (Comp) | Castleberry, AL | 04/16/09 | 04/14/09
65807 | Leech Industries, Inc. (Comp) | Meadville, PA | 04/16/09 | 04/10/09
65808 | Qimonda North America (Comp) | Sandston, VA | 04/16/09 | 04/15/09
65809 | Vishay Roederstein (Comp) | Statesville, NC | 04/16/09 | 04/15/09
65810 | Ross Mould, Inc. (USW) | Washington, PA | 04/17/09 | 04/13/09
65811 | Advanced Industrial Machinery, Inc. (Comp) | Hickory, NC | 04/17/09 | 04/14/09
65812 | Weyerhaeuser Company/Dodson Veneer (State) | Dodson, LA | 04/17/09 | 04/15/09
65813 | Cymer Corporation (Wkrs) | San Diego, CA | 04/17/09 | 04/15/09
65814 | Sperian Protective Gloves, USA (Comp) | Buffalo, NY | 04/17/09 | 04/07/09
65815 | Councill Company, LLC (Comp) | Denton, NC | 04/17/09 | 04/15/09

[FR Doc. E9-9940 Filed 4-29-09; 8:45 am]

BILLING CODE 4510-FN-P